ENVIRONMENTAL PROTECTION AGENCY

[EPA-HQ-OPP-2008-0143; FRL-8353-9]

The Association of American Pesticide Control Officials/State FIFRA Issues Research and Evaluation Group Working Committee on Pesticide Operations and Management; Notice of Public Meeting

AGENCY: Environmental Protection Agency (EPA).

ACTION: Notice.

SUMMARY: The Association of American Pesticide Control Officials (AAPCO)/State FIFRA Issues Research and Evaluation Group (SFIREG) Working Committee on Pesticide Operations and Management (WC/POM) will hold a 2-day meeting, beginning on April 7, 2008 and ending April 8, 2008. This notice announces the location and times for the meeting and sets forth the tentative agenda topics.

DATES: The meeting will be held on Monday, April 7, 2008 from 8:30 a.m. to 5 p.m. and 8:30 a.m. to 12 noon on Tuesday, April 8, 2008.

To request accommodation of a disability, please contact the person listed under FOR FURTHER INFORMATON CONTACT, preferably at least 10 days prior to the meeting, to give EPA as much time as possible to process your request.

ADDRESSES: The meeting will be held at EPA, One Potomac Yard (South Bldg.) 2777 Crystal Dr., Arlington, VA, 4th Floor South Conference Room.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcDuffie.georgia@epa.gov or Grier Stayton, SFIREG Executive Secretary, P.O. Box 466, Milford, DE 19963; telephone number: (302) 422-8152; fax (302) 422-2435; e-mail address: grier stayton <aapco-sfireg@comcast.net>.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate. Potentially affected entities may include, but are not limited to:

Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

1. Follow up report from EPA following pesticide label discussions at fall POM meeting

2. Proposal to Change Acreage Threshold for Experiment Use Permits (EUPs)

3. Update on NAFTA Labeling and Web-based Pesticide Labeling

4. Department of Homeland Security and their Chemicals of Interest List

5. Food Safety Issues Following Pesticide Misuse

6. Discussions on PART and EPA's 5700 Form

7. EPA Update/Briefing

a. Office of Pesticide Programs Update

b. Office of Enforcement Compliance Assurance Update

8. POM Working Committee Workgroups Issue Papers/Updates

III. How Can I Request to Participate in this Meeting?

You may submit a request to participate in this meeting to the person listed under FOR FURTHER INFORMATION CONTACT. Do not submit any information in your request that is considered CBI. Requests to participate in the meeting, identified by docket ID number EPA-HQ-OPP-2008-0143, must be received on or before April 11, 2008.

List of Subjects

Environmental protection.

Dated: March 3, 2008.
William R. Diamond,
Director, Field External Affairs Division, Office of Pesticide Programs.

[FR Doc. E8-4968 Filed 3-11-08; 8:45 am]

BILLING CODE 6560-50-S